DEPARTMENT OF TRANSPORTATION

Federal Railroad Administration

[Docket Number FRA-2011-0026]

Petition for Approval of Product Safety Plan

In accordance with part 211 of title 49 of the Code of Federal Regulations (CFR), this provides the public notice that by a document dated May 6, 2015, the Long Island Rail Road (LIRR) has petitioned the Federal Railroad Administration (FRA) for approval of its Product Safety Plan (PSP) for its Microlok II Interlocking Controller with Executive Software Version CC3.0. FRA assigned the petition Docket Number FRA-2011-0026.

The PSP submitted is intended to meet the requirements prescribed in 49 CFR part 236 Subpart H (Standards for Development and Use of Processor-Based Signal and Train Control Systems), specifically, section 236.907 for Microlok II with Executive Software Version CC 3.0.(Microlok II CC3.0). FRA is requiring the LIRR to submit a PSP on Microlok II CC3.0 because Software Version CC3.0 of the executive software incorporates safety-critical modifications and enhancements that did not exist in the previous versions of Microlok II that have been in revenue operations prior to June 6, 2005, and were eligible for exclusion from the requirements of Subpart H.

Microlok II CC3.0 is a processor-based programmable interlocking controller designed for application in safety-critical railway operations. The basic operation of this product is to accept a variety of inputs, perform the user-specified logic that maps those inputs into a series of outputs, and then deliver those outputs to safely operate the various physical components of the interlocking to route trains in a safe manner consistent with standard vital railway signaling practices. The product also incorporates non-vital controls and indications where such features are required.

The LIRR intends to apply Microlok II CC 3.0 as its Vital Microprocessor Based Interlocking Control System (VMICS) at the Harold and Point Interlockings on the LIRR mainline in Long Island City, NY. All tracks through the interlockings have a 60 mile per hour (mph) passenger train speed limit and a 20 mph freight train speed. The operational characteristics include a bi-directional cab signal system with wayside signals within the interlockings.

LIRR maintains that the Microlok II CC3.0 safety critical processor-based interlocking controller uses a combination of intrinsic fail-safety and diversity and self-checking safety assurance techniques to mitigate the effects of random hardware faults. Per LIRR this would allow the Microlok II CC3.0 controller to achieve and maintain a safety integrity level against systematic faults that satisfy the safety requirements of 49 CFR part 236 subpart H.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 20, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on May 2, 2015.
Ron Hynes,
Director of Technical Oversight.

[FR Doc. 2015-13640 Filed 6-3-15; 8:45 am]

BILLING CODE 4910-06-P